DEPARTMENT OF COMMERCE

National Oceanic and Atmospheric Administration

50 CFR Part 648

[Docket No. 220311-0070; RTID 0648-XX075]

Fisheries of the Northeastern United States; Northeast Skate Complex; 2022 and 2023 Specifications

AGENCY: National Marine Fisheries Service (NMFS), National Oceanic and Atmospheric Administration (NOAA), Commerce.

ACTION: Final rule.

SUMMARY: NMFS issues final Northeast skate specifications for the 2022 fishing year, and projects specifications for fishing year 2023, as recommended by the New England Fishery Management Council. This action is necessary to establish annual allowable harvest levels for the skate fishery that prevent overfishing while enabling optimum yield, using the best scientific information available.

DATES: Effective on May 1, 2022.

ADDRESSES: The New England Fishery Management Council prepared a Supplemental Information Report (SIR) for these specifications that describes the action and any changes from the original environmental assessment (EA) and analyses for this 2022-2023 specifications action. Copies of the SIR, original EA, and other supporting documents for this action, are available upon request from Thomas A. Nies, Executive Director, New England Fishery Management Council, 50 Water Street, Newburyport, MA 01950. These documents are also accessible via the internet at https://www.nefmc.org/management-plans/skates.

FOR FURTHER INFORMATION CONTACT: Cynthia Ferrio, Fishery Policy Analyst, (978) 281-9180.

SUPPLEMENTARY INFORMATION:

Background

The New England Fishery Management Council manages a complex of seven skate species (barndoor, clearnose, little, rosette, smooth, thorny, and winter skate) in the New England and Mid-Atlantic regions under the Northeast Skate Complex Fishery Management Plan (FMP). Skates are harvested and managed in two different fishery sectors, one for food (the wing fishery) and one for bait used in other fisheries (the bait fishery). The FMP requires the review and specification of an acceptable biological catch (ABC), annual catch limit (ACL), annual catch target (ACT), fishery-level total allowable landings (TAL) limit, separate TALs for the wing and bait fisheries, and other management measures, as needed, for up to two fishing years at a time. This action implements skate specifications for the 2022 fishing year, and projects specifications for 2023, as recommended by the Council.

The proposed rule for this action published in the Federal Register on January 18, 2022 (87 FR 2587), and comments were accepted through February 17, 2022. NMFS did not receive any comments from the public during this period. Additional background information regarding the development of these specifications was provided in the proposed rule and is not repeated here.

Specifications

This action implements the Council's recommended 2022 and projected 2023 skate catch specifications (Table 1), as outlined in the proposed rule. These specifications increase the ABC by 14 percent and annual quotas for both the wing and bait fisheries by 18 percent in fishing year 2022. Specifications for fishing year 2023 are projected to be unchanged from 2022.

Table 1—Summary of Final 2022 and Projected 2023 Skate Fishery Specifications
| Metric tons | Million lb
ABC = ACL | 37,236 | 82.091
ACT | 33,513 | 73.883
Overall Fishery TAL | 21,142 | 46.610
Wing TAL (66.5% of Overall TAL) | 14,059 | 30.995
Wing Season 1 TAL (57% of Wing TAL) | 8,014 | 17.668
Wing Season 2 TAL | 6,045 | 13.327
Bait TAL (33.5% of Overall TAL) | 7,082 | 15.613
Bait Season 1 TAL (30.8% of Bait TAL) | 2,181 | 4.808
Bait Season 2 TAL (37.1% of Bait TAL) | 2,627 | 5.792
Bait Season 3 TAL | 2,274 | 5.013

All other fishery management measures, such as trip limits, remain unchanged under this action. The Council will review the projected specifications for fishing year 2023 in light of any new information to determine if any changes need to be made prior to their implementation. NMFS will publish a notice prior to the 2023 fishing year to confirm these limits as projected or propose any necessary changes.

Comments and Responses

The public comment period for the proposed rule ended on February 17, 2022. NMFS received no comments from the public during this period.

Changes From the Proposed Rule

There are no changes from the proposed rule.

Classification

The NMFS Administrator, Greater Atlantic Region, has determined that these specifications are necessary for the conservation and management of the Northeast skate fishery, and that it is consistent with the Northeast Skate Complex FMP, other provisions of the Magnuson-Stevens Act, and other applicable laws.

This final rule is exempt from review under Executive Order 12866 because the action contains no implementing regulations.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification, and the initial certification remains unchanged. As a result, a final regulatory flexibility analysis was not required and none was prepared.

This final rule does not duplicate, conflict, or overlap with any existing Federal rules.

This action contains no information collection requirements under the Paperwork Reduction Act of 1995.

Authority: 16 U.S.C. 1801 et seq.

Dated: March 11, 2022.
Samuel D. Rauch, III,
Deputy Assistant Administrator for Regulatory Programs, National Marine Fisheries Service.

[FR Doc. 2022-05649 Filed 3-16-22; 8:45 am]

BILLING CODE 3510-22-P